DEPARTMENT OF TRANSPORTATION

Federal Aviation Administration

14 CFR Part 39

[Docket No. FAA-2004-19532; Directorate Identifier 2004-NM-87-AD; Amendment 39-14096; AD 2005-10-19]

RIN 2120-AA64

Airworthiness Directives; Boeing Model 747-100, 747-100B, 747-200B, 747-300, 747-400, 747-400D, 747SR, and 747SP Series Airplanes

AGENCY: Federal Aviation Administration (FAA), Department of Transportation (DOT).

ACTION: Final rule.

SUMMARY: The FAA is adopting a new airworthiness directive (AD) for certain Boeing Model 747-100, 747-100B, 747-200B, 747-300, 747-400, 747-400D, 747SR, and 747SP series airplanes. This AD requires replacing or modifying the control panels for the galley cart lift and modifying related electrical cable assemblies, as applicable. This AD is prompted by reports of injuries to catering personnel and flight attendants who were loading or unloading galley carts on one deck when, due to a disabled or malfunctioning safety interlock door switch, the galley cart lift unexpectedly moved when it was activated from the control panel on the other deck. We are issuing this AD to ensure that the galley cart lift can be sent only from the deck on which it is in use, which will prevent unexpected movement of the cart lift that could result in possible injury to catering personnel or flight attendants.

DATES: This AD becomes effective June 23, 2005.

The incorporation by reference of certain publications listed in the AD is approved by the Director of the Federal Register as of June 23, 2005.

ADDRESSES: For service information identified in this AD, contact Boeing Commercial Airplanes, P.O. Box 3707, Seattle, Washington 98124 2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19532; the directorate identifier for this docket is 2004-NM-87-AD.

FOR FURTHER INFORMATION CONTACT: Donald Wren, Aerospace Engineer, Cabin Safety and Environmental Systems Branch, ANM-150S, FAA, Seattle Aircraft Certification Office, 1601 Lind Avenue, SW., Renton, Washington 98055-4056; telephone (425) 917-6451; fax (425) 917-6590.

SUPPLEMENTARY INFORMATION: The FAA proposed to amend 14 CFR Part 39 with an AD for certain Boeing Model 747-100, 747-100B, 747-200B, 747-300, 747-400, 747-400D, 747SR, and 747SP series airplanes. That action, published in the Federal Register on November 5, 2004 (69 FR 64537), proposed to require replacing or modifying the control panels for the galley cart lift and modifying related electrical cable assemblies, as applicable.

Comments

We provided the public the opportunity to participate in the development of this AD. We have considered the comments that have been submitted on the proposed AD.

Request To Clarify Prompt Language and Statement of Unsafe Condition

One commenter, the manufacturer, requests that we clarify the statements in the Summary and paragraph (d) of the proposed AD of what prompted the proposed AD and clarifying the unsafe condition. The commenter suggests we can do this by explaining the role of a disabled or malfunctioning safety interlock door switch of the galley cart lift. The commenter states that the existing statements do not clearly describe the string of events relevant to the unexpected movement of the galley cart lift.

We partially agree. The statement of what prompted the proposed AD would be clearer if we included the role of a disabled or malfunctioning safety interlock door switch of the galley cart lift. We have changed the Summary and paragraph (d) of the final rule to include this role.

However, we do not agree that the statement of the unsafe condition should include the role of a disabled or malfunctioning safety interlock door switch. The purpose of this AD is to prevent the galley cart lift from being activated from the other deck control panel, regardless of whether the safety interlock switch is functional or not. We have not changed the final rule in this regard.

Request To Clarify Discussion and Relevant Service Information

The same commenter requests that the Discussion and Relevant Service Information sections of the proposed AD be revised to include the role of a disabled or malfunctioning safety interlock door switch. The commenter states the same reason as before.

We do not agree. The existing sections are intended to describe the unsafe condition and are adequate as written. Further, the Discussion and Relevant Service Information sections are not carried forward into the final rule. No change is needed in this regard.

Request To Specify Increased Personnel Training and Oversight

The same commenter requests that the Relevant Service Information section be revised by adding Boeing Alert Service Bulletin 747-25A3116, which specifies installation of additional cautionary placarding to the galley lift doors. Further, the commenter states that increased levels of operational training and oversight would best minimize injury of personnel who operate the galley cart lift. The commenter states these actions will have the greatest effect in reducing potential injuries.

We do not agree. The commenter's proposed revision introduces the replacement and/or relocation of warning placards as well as additional recommended actions involving crew training and oversight that are not required by this AD. Additional crew training and oversight and additional placards may be helpful but we have determined, in this case, that the actions mandated by this AD are sufficient to address the unsafe condition. Further, as already stated, the Relevant Service Information section is not carried forward into the final rule. No change is needed in this regard.

Conclusion

We have carefully reviewed the available data, including the comments that have been submitted, and determined that air safety and the public interest require adopting the AD with the changes described previously. We have determined that these changes will neither increase the economic burden on any operator nor increase the scope of the AD.

Costs of Compliance

There are about 600 airplanes of the affected design worldwide. This AD will affect about 66 airplanes of U.S. registry.

About 22 Model 747-100, 747-100B, 747-200B, 747-300, 747SR, and 747SP series airplanes of U.S. registry will be affected by the required actions. It will take about 7 work hours per airplane to do the required actions, at an average labor rate of $65 per work hour. Required parts will cost about $143 per airplane. Based on these figures, the estimated cost of the AD for these U.S. operators is $13,156, or $598 per airplane.

About 44 Model 747-400 and 747-400D series airplanes of U.S. registry will be affected by the required actions. It will take about 2 work hours per airplane to do the required actions, at an average labor rate of $65 per work hour. Required parts will cost about $4,934 per airplane. Based on these figures, the estimated cost of the AD for these U.S. operators is $222,816, or $5,064 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-10-19 Boeing: Amendment 39-14096. Docket No. FAA-2004-19532; Directorate Identifier 2004-NM-87-AD.

Effective Date

(a) This AD becomes effective June 23, 2005.

Affected ADs

(b) None.

Applicability

(c) This AD applies to certain Boeing Model 747-100, 747-100B, 747-200B, 747-300, 747SR, and 747SP series airplanes, as identified in Boeing Alert Service Bulletin 747-25A3287, Revision 2, dated September 4, 2003; and Model 747-400 and 747-400D series airplanes, as identified in Boeing Service Bulletin 747-25A3187, Revision 2, dated January 27, 2000; certificated in any category.

Unsafe Condition

(d) This AD was prompted by reports of injuries to catering personnel and flight attendants who were loading or unloading galley carts on one deck when, due to a disabled or malfunctioning safety interlock door switch, the galley cart lift unexpectedly moved when it was activated from the control panel on the other deck. We are issuing this AD to ensure that the galley cart lift can be sent only from the deck on which it is in use, which will prevent unexpected movement of the cart lift that could result in possible injury to catering personnel or flight attendants.

Compliance

(e) You are responsible for having the actions required by this AD performed within the compliance times specified, unless the actions have already been done.

Replacement/Modification of Control Panel

(f) Within 18 months after the effective date of this AD, accomplish the actions required by paragraph (f)(1) or (f)(2) of this AD, as applicable.

(1) For Model 747-400 and 747-400D series airplanes: Replace the main and upper deck control panels for the galley cart lift with new or modified control panels by doing all the actions specified in Boeing Service Bulletin 747-25A3187, Revision 2, dated January 27, 2000.

(2) For Model 747-100, 747-100B, 747-200B, 747-300, 747SR, and 747SP series airplanes: Modify the main and upper deck control panels and related cable assemblies for the galley cart lift by doing all the actions specified in Boeing Alert Service Bulletin 747-25A3287, Revision 2, dated September 4, 2003.

Actions Accomplished Per Previous Issue of Service Bulletin

(g) Actions accomplished before the effective date of this AD in accordance with Boeing Alert Service Bulletin 747-25A3287, dated October 25, 2001, or Revision 1, dated April 25, 2002; or in accordance with Boeing Service Bulletin 747-25A3187, dated April 29, 1999, or Revision 1, dated September 23, 1999; are considered acceptable for compliance with the corresponding actions specified in paragraph (f) of this AD.

Alternative Methods of Compliance (AMOCs)

(h) The Manager, Seattle Aircraft Certification Office, FAA, has the authority to approve AMOCs for this AD, if requested in accordance with the procedures found in 14 CFR 39.19.

Material Incorporated by Reference

(i) You must use Boeing Service Bulletin 747-25A3187, Revision 2, dated January 27, 2000; or Boeing Alert Service Bulletin 747-25A3287, Revision 2, dated September 4, 2003; as applicable; to perform the actions that are required by this AD, unless the AD specifies otherwise. The Director of the Federal Register approves the incorporation by reference of these documents in accordance with 5 U.S.C. 552(a) and 1 CFR part 51. To get copies of the service information, go to Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on May 9, 2005.
Jeffrey E. Duven,
Acting Manager, Transport Airplane Directorate, Aircraft Certification Service.

[FR Doc. 05-9874 Filed 5-18-05; 8:45 am]

BILLING CODE 4910-13-P